FEDERAL COMMUNICATIONS COMMISSION

47 CFR Part 73

[DA 00-655; MM Docket No. 99-139; RM-9402, RM-9412]

Radio Broadcasting Services; Princeville, Kapaa, and Kalaheo, HI

AGENCY: Federal Communications Commission.

ACTION: Final rule.

SUMMARY: The Commission, at the request of two separate petitioners, Vetter Communications Co., Inc. permittee of Station KAWT, Channel 255C1, Princeville, Hawaii, and B&GRS Partnership permittee of Station KAYI, Channel 260C1, Princeville, Hawaii reallots Channel 255C1 from Princeville to Kapaa, Hawaii, as the community's first local aural service and reallots Channel 260C1 from Princeville to Kalaheo, Hawaii. See 64 FR 24566 (May 7, 1999). Each channel can be allotted to its respective community in compliance with the Commission's minimum distance separation requirements, with respect to domestic allotments, without the imposition of a site restriction. The reference coordinates for a Channel 255C1 allotment at Kapaa, Hawaii, are 22-04-42 North Latitude and 159-19-19 West Longitude. The reference coordinates for a Channel 260C1 allotment at Kalaheo, Hawaii, are 21-59-54 North Latitude and 159-25-35 West Longitude.

DATE: Effective May 8, 2000.

FOR FURTHER INFORMATION CONTACT: Victoria M. McCauley, Mass Media Bureau, (202) 418-2180.

SUPPLEMENTARY INFORMATION: This is a synopsis of the Commission's Report and Order, MM Docket No. 99-139, adopted March 15, 2000, and released March 24, 2000. The full text of this Commission decision is available for inspection and copying during normal business hours in the FCC Reference Center (Room 239), 445 12th Street, SW., Washington, DC. The complete text of this decision may also be purchased from the Commission's copy contractor, International Transcription Services, Inc., (202) 857-3800, 1231 20th Street, NW., Washington, DC 20036.

List of Subjects in 47 CFR Part 73

Radio broadcasting.

Part 73 of Title 47 of the Code of Federal Regulations is amended as follows:

PART 73—[AMENDED]

1. The authority citation for Part 73 continues to read as follows:

Authority: 47 U.S.C. 154, 303, 334. 336.

§ 73.202 [Amended]

2. Section 73.202(b), the Table of FM Allotments under Hawaii, is amended by removing Princeville, Channels 255C1, and 260C1, and adding in alphabetical order, Kapaa, Channel 255C1, and Kalaheo, Channel 260C1.

Federal Communications Commission.
John A. Karousos,
Chief, Allocations Branch, Policy and Rules Division, Mass Media Bureau.

[FR Doc. 00-9381 Filed 4-14-00; 8:45 am]

BILLING CODE 6712-01-U